DEPARTMENT OF DEFENSE

Office of the Secretary

[Transmittal No. 24-113]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-113 and Policy Justification.

Dated: January 8, 2026.
Stephanie J. Bost,
Alternate OSD Federal Register Liaison Officer, Department of Defense.

BILLING CODE 6001-FR-P

BILLING CODE 6001-FR-C

Transmittal No. 24-113

Notice of Proposed Issuance of Letter of Offer Pursuant to Section 36(b)(1) of the Arms Export Control Act, as amended

(i) Prospective Purchaser: Government of Kuwait

(ii) Total Estimated Value:

Major Defense Equipment * | $ 0
Other | $1.0 billion
TOTAL | $1.0 billion

Funding Source: National Funds

(iii) Description and Quantity or Quantities of Articles or Services Under Consideration for Purchase: The Government of Kuwait has requested to buy services to support the procurement of maritime and land facilities at the Mohammed Al Ahmed Naval Base, other affiliated locations, the Ras Al Ard Naval Base for Onshore Logistics and an alternate logistics station in Kuwait, as well as construction of a headquarters complex.

Major Defense Equipment (MDE):

None

Non-Major Defense Equipment:

The following non-MDE items will be included: life cycle design; construction; project management; engineering studies; engineering services; technical support; facility and infrastructure assessments; surveys; planning; programming; design; acquisition; contract administration; construction management; logistics; other technical services; and other related elements of logistics and program support.

(iv) Military Department: Army (KU-B-HBP, KU-B-HBR)

(v) Prior Related Cases, if any: KU-B-HAZ

(vi) Sales Commission, Fee, etc., Paid, Offered, or Agreed To Be Paid: None known at this time

(vii) Sensitivity of Technology Contained in the Defense Article or Defense Services Proposed to be Sold: None

(viii) Date Report Delivered to Congress: February 6, 2025

* as defined in Section 47(6) of the Arms Export Control Act.

POLICY JUSTIFICATION

Kuwait—Design and Construction Services

The Government of Kuwait has requested to buy services to support the procurement of maritime and land facilities at the Mohammed Al Ahmed Naval Base, other affiliated locations, the Ras Al Ard Naval Base for Onshore Logistics and an alternate logistics station in Kuwait, as well as construction of a headquarters complex. The following non-MDE items will be included: life cycle design; construction; project management; engineering studies; engineering services; technical support; facility and infrastructure assessments; surveys; planning; programming; design; acquisition; contract administration; construction management; logistics; other technical services; and other related elements of logistics and program support. The estimated total cost is $1.0 billion.

This proposed sale will support the foreign policy and national security objectives of the United States (U.S.) by helping to improve the infrastructure of a major non-NATO ally that has been an important force for political stability and economic progress in the Middle East.

The proposed sale will improve Kuwait's capability to meet current and future threats by providing onshore logistic support. Kuwait will have no difficulty absorbing this construction and associated services into its armed forces.

The proposed sale of this equipment and support will not alter the basic military balance in the region.

The principal contractor(s) will be determined from approved vendors, likely by competitive acquisitions. At this time, the U.S. Government is not aware of any offset agreement proposed in connection with this potential sale. Any offset agreement will be defined in negotiations between the purchaser and the contractor.

Implementation of this proposed sale will require the assignment of up to twenty U.S. Government or U.S. contractor representatives to Kuwait for a duration of up to twelve years to provide construction management and oversight.

There will be no adverse impact on U.S. defense readiness as a result of this proposed sale.

[FR Doc. 2026-00447 Filed 1-12-26; 8:45 am]

BILLING CODE 6001-FR-P